DEPARTMENT OF AGRICULTURE

Animal and Plant Health Inspection Service

[Docket No. 00-058-1]

Public Meetings; Pine Shoot Beetle

AGENCY: Animal and Plant Health Inspection Service, USDA.

ACTION: Notice of public meetings and request for comments.

SUMMARY: The Animal and Plant Health Inspection Service plans to host three public meetings to discuss issues related to how we should administer our pine shoot beetle program.

DATES: We invite you to comment on this docket. We will consider all comments that we receive by August 28, 2000.

The public meetings will be held in: (1) Salem, OR, on July 24, 2000; (2) Albany, NY, on July 26, 2000; and (3) Forest Park, GA, on July 28, 2000. Each public meeting will begin at 1 p.m. and is scheduled to end at 5 p.m., local time.

ADDRESSES: If you cannot attend a public meeting, please send your written comment and three copies to: Docket No. 00-058-1, Regulatory Analysis and Development, PPD, APHIS, Suite 3C03, 4700 River Road, Unit 118, Riverdale, MD 20737-1238.

Please state that your comment refers to Docket No. 00-058-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

The public meetings will be held at the following locations:

(1) Salem, OR: Oregon Department of Agriculture, Hearing Room, 635 Capitol NE, Salem, OR.

(2) Albany, NY: New York Department of Agriculture and Marketing, State Conference Room, 1 Winners Circle, Albany, NY.

(3) Forest Park, GA: Atlanta Farmers' Market, Welcome Center, 16 Forest Parkway, Forest Park, GA.

FOR FURTHER INFORMATION CONTACT: Coanne E. O'Hern, National Survey Coordinator, PPQ, APHIS, 4700 River Road Unit 134, Riverdale, MD 20737-1236; (301) 734-8247.

SUPPLEMENTARY INFORMATION: The Animal and Plant Health Inspection Service (APHIS) plans to host three public meetings to discuss how we should administer our pine shoot beetle program.

Our pine shoot beetle program is based on our pine shoot beetle regulations (7 CFR 301.50-1 through 301.50-10, referred to below as the regulations). The regulations govern the interstate movement of regulated articles from areas quarantined because of pine shoot beetle. Section 301.50-2 of the regulations provides a list of articles regulated because of pine shoot beetle. Regulated articles are the following pine (Pinus spp.) products: Bark nuggets (including bark chips), Christmas trees, logs with bark attached, lumber with bark attached, nursery stock, pine wreaths and garlands, raw pine materials for pine wreaths and garlands, and stumps. In addition, any other article determined to present a risk of spreading pine shoot beetle may be designated as a regulated article. Section 301.50-3 of the regulations lists areas quarantined because of pine shoot beetle. Quarantined areas include counties in the following States: Illinois, Indiana, Maryland, Michigan, New Hampshire, New York, Ohio, Pennsylvania, Vermont, West Virginia, and Wisconsin. Sections 301.50-4 through 301.50-10 provide requirements for moving regulated articles interstate from quarantined areas to nonquarantined areas. These sections include requirements for certificates and limited permits and for treatment of regulated articles.

From 1992, when pine shoot beetle was first detected in the United States, through 1997, the pine shoot beetle program was funded through APHIS contingency funding. From fiscal year 1998 through fiscal year 2000, funding for the program (approximately $185,000) came from miscellaneous pest line item funding. These funds are limited for use in the eastern region of the United States. We are not certain whether there will be adequate funding to conduct pine shoot beetle program activities in fiscal year 2001 and beyond.

In spite of our efforts to control the spread of pine shoot beetle through the regulations, infested counties continue to be detected each year. Because of this, we must annually add many counties to the list of quarantined areas. The public meetings will provide an opportunity for interested persons to comment on whether APHIS should continue to administer the pine shoot beetle program in accordance with the regulations or if we should pursue another course of action. Please note, however, that while the information gathered during the meetings may indicate the need for changes to our current regulatory program, the meetings will not directly result in any changes to the regulations. If we determine that changes to the regulations are appropriate, we will publish a document in the Federal Register for public comment.

Topics

Because of the potential for inadequate funding and the continued spread of pine shoot beetle, we would like interested persons to comment on the following topics:

1. Should the pine shoot beetle program be maintained?

2. How effective is the pine shoot beetle program?

3. What changes could be made to the program to make it more effective?

4. If we maintain the program, how should it be funded?

Comments on these, or other related topics, are welcome during the public meetings.

Meeting Procedures/Registration

A representative of APHIS will preside at each public meeting. Any interested person may appear and be heard in person, by attorney, or by another representative. Written statements may be submitted and will be made part of the meeting record. Persons who wish to speak at a meeting will be asked to provide their names and organizations. We ask that anyone who reads a statement or submits a written statement provide two copies to the presiding officer at the meeting.

Registration for each public meeting will take place from 12:30 p.m. to 1 p.m. on the day of the meeting at the meeting room. Each public meeting will begin at 1 p.m. and is scheduled to end at 5 p.m., local time. However, any meeting may end at any time after it begins if all persons desiring to speak have been heard. If the number of speakers at a meeting warrants it, the presiding officer may limit the time for presentations so that everyone wishing to speak has the opportunity.

Written Comments

If you cannot attend a public meeting, you may submit written comments on the topics outlined in this notice. To submit written comments, please follow the instructions listed under the heading ADDRESSES near the beginning of this document.

Done in Washington, DC, this 22nd day of June 2000.
Bobby R. Acord,
Acting Administrator, Animal and Plant Health Inspection Service.

[FR Doc. 00-16316 Filed 6-27-00; 8:45 am]

BILLING CODE 3410-34-P